NUCLEAR REGULATORY COMMISSION

Biweekly Notice Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission to publish notice of any amendments issued, or proposed to be issued, and grants the Commission the authority to issue and make immediately effective any amendment to an operating license upon a determination by the Commission that such amendment involves no significant hazards consideration, notwithstanding the pendency before the Commission of a request for a hearing from any person.

This biweekly notice includes all notices of amendments issued, or proposed to be issued from November 6, 2008 to November 19, 2008. The last biweekly notice was published on November 18, 2008 (73 FR 68451).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as Social Security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Detroit Edison Company, Docket No. 50-341, Fermi 2, Monroe County, Michigan

Date of amendment request: September 12, 2008.

Description of amendment request: The proposed amendment would remove work hour guidance from the administrative controls section of Fermi 2 Technical Specification (TS) 5.2.2, to eliminate any potential conflict with the revised Title 10 of the Code of Federal Regulations (10 CFR) Section 26, Subpart I rules.

Basis for proposed no significant hazards consideration determination: As required by 10 CFR 50.91(a), the licensee has provided its analysis of the issue of no significant hazards consideration, which is presented below:

1. The proposed change does not involve a significant increase in the probability or consequences of an accident previously evaluated.

The removal of statements relating to work hour guidance will not remove the requirement to control work hours and manage fatigue. At the time the TS amendment is implemented, 10 CFR 26, Subpart I will have been fully implemented. The proposed change does not impact the physical configuration or function of the plant structures, systems, or components (SSCs) or the manner in which SSCs are operated, maintained, modified, tested or inspected. The proposed change does not impact the initiators or assumptions of analyzed events, nor do they impact the mitigation of accidents or transient events.

This proposed amendment does not involve a significant increase in the probability or consequences of an accident previously evaluated.

2. The proposed change does not create the possibility of a new or different kind of accident from any accident previously evaluated.

The proposed change removes references of statements relating to staff working hours from TS to support the implementation of Subpart I of 10 CFR 26. The regulations in 10 CFR 26, Subpart I supersede the current guidance and add conservatism to work hour controls and fatigue management. Work hours will continue to be controlled in accordance with NRC requirements. The new rule continues to allow for deviations from work hour controls in order to mitigate or prevent a condition adverse to safety or necessary to maintain the security of the facility. This ensures that the new rule will not restrict work hours at the expense of the health and safety of the public or plant personnel.

The proposed change does not alter plant configuration, require that new plant equipment be installed, or alter assumptions made for accidents previously evaluated. The proposed change does not add any initiators, or impact the functions of plant SSCs or the manner in which SCCs are operated, maintained, modified, tested, or inspected.

Because the proposed change does not remove the station's requirements to control work hours, the proposed amendment does not create the possibility of a new or different kind of accident from any accident previously evaluated.

3. The proposed change does not involve a significant reduction in the margin of safety.

An input to maintaining the margin of safety is the control of work hours as a tool in managing fatigue. Fermi 2 will continue the fitness-for-duty and behavioral observation programs, both of which will be strengthened by compliance with the new rule. The proposed change does not involve any physical change to plant SSCs or the manner in which SSCs are operated, maintained, modified, tested, or inspected. The proposed change does not involve a change to any safety limits, limiting safety system settings, limiting conditions of operation, or design parameters for any SSC. The proposed change does not impact any safety analysis assumptions and does not involve changes in initial conditions, system response times, or other parameters affecting an accident analysis. Therefore, this proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: David G. Pettinari, Legal Department, 688 WCB, Detroit Edison Company, 2000 2nd Avenue, Detroit, Michigan 48226-1279.

NRC Branch Chief: Lois M. James.

Energy Northwest, Docket No. 50-397, Columbia Generating Station, Benton County, Washington

Date of amendment request: September 9, 2008.

Description of amendment request: The proposed change modifies Technical Specification 3.3.6.1, “Primary Containment Isolation Instrumentation,” to lower the Group 1 Isolation Valves reactor water level isolation signal from Level 2 (L2) to Level 1 (L1).

Basis for proposed no significant hazards consideration determination: As required by 10 CFR 50.91(a), the licensee has provided its analysis of the issue of no significant hazards consideration, which is presented below:

1. Does the proposed amendment involve a significant increase in the probability or consequences of an accident previously evaluated?

Response: No.

Lowering the Group 1 isolation signal does not increase the probability of an accident, it changes only the level at which the isolation valves close. Isolation of the Group 1 valves occurs in response to lowering RPV water level during some transient events. As such, the isolation of Group 1 valves on lowering water level, which occurs in response to transients, is not an initiator of any transient or accident previously evaluated. Because the isolation of Group 1 valves on low water level occurs in response to some transients and is not an initiator of a transient event, lowering the level at which this isolation occurs does not impact the probability of an accident previously evaluated.

During some transients, delayed closure of the Group 1 isolation valves will reduce the chances of SRV [safety relief valve] actuation following an event by allowing the main condenser to remain available longer, without increasing the dose consequences of an event. Analyses performed show that lowering of the Group 1 isolation signal to L1 has no impact on the FSAR [final safety analysis report] Chapter 15 events in terms of RPV [reactor pressure vessel] limits, ability to maintain necessary coolant inventory, or fission product release. Therefore, the proposed change does not involve a significant increase in the probability or consequences of an accident previously evaluated.

2. Does the proposed amendment create the possibility of a new or different kind of accident from any accident previously evaluated?

Response: No.

While the proposed change is a change to the Group 1 isolation initiation signal, the other requirements (surveillance intervals, action statements, etc.) remain the same for “Primary Containment Isolation Instrumentation.” The methods used to test and determine operability of the instrumentation providing the low water level initiation for Group 1 isolation valves are unaffected by this change. This change does not change any equipment function, change the potential failure modes of any equipment, or alter any existing logic. Therefore, the proposed change does not create the possibility of a new or different kind of accident from any previously evaluated.

3. Does the proposed amendment involve a significant reduction in a margin of safety?

Response: No.

The proposed change to the Group 1 isolation signal from L2 to L1 allows more energy to be released to the main condenser (and reduces the amount potentially added to the suppression pool) after a reactor scram. This allows the operations staff and the turbine BPVs [bypass valves] to control RPV pressure following the initial transient without the use of SRVs. This reduces the potential of additional challenges to the operations staff and plant equipment and therefore, reduces the probability of more risk-significant scrams. By removing this energy through the condenser rather than the suppression pool, the change requested improves reactor system safety from the standpoint of reducing SRV challenges (and the potential for stuck open SRVs). The analyses for transients and accidents that involve the Group I isolation demonstrate that the isolation occurs on signals other than low water level, or that adequate core cooling capability is maintained so that RPV water level does not decrease below acceptable levels. The analyses of the impacted events demonstrate that when the Group 1 isolation signal is lowered to L1, consequences of LOFF [loss of feedwater flow], LOCA [loss of coolant accident], and ATWS-LOFF [anticipated transient without scram—loss of feedwater flow] events do not result in any temperature, pressure, or water level transient in excess of the design criteria for the fuel, RPV, or containment. Therefore barrier integrity and functions are maintained. For these reasons, the margin of safety is not reduced for any impacted event. Implementation of the proposed amendment would improve the margin of safety, in terms of reducing the probability of risk-significant scrams and reducing the amount of energy required to be absorbed by the suppression pool for some events. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

STP Nuclear Operating Company, Docket Nos. 50-498 and 50-499, South Texas Project, Units 1 and 2, Matagorda County, Texas

Date of amendment request: September 2, 2008.

Description of amendment request: The proposed amendment would revise the Updated Final Safety Analysis Report (UFSAR) Section 13.7.2.3, “PRA Risk Categorization,” to add a separate set of criteria for assessing the risk significance of the Risk Achievement Worth (RAW) values of common cause failures (CCFs) as part of the Probabilistic Risk Assessment (PRA) analysis of the risk importance of components.

Basis for proposed no significant hazards consideration determination: As required by 10 CFR 50.91(a), the licensee has provided its analysis of the issue of no significant hazards consideration, which is presented below:

1. Does the proposed change involve a significant increase in the probability or consequences of an accident previously evaluated?

Response: [No.]

The proposed change does not involve the modification of any plant equipment or affect basic plant operation. The proposed change revises the STPNOC [STP Nuclear Operating Company] method of assessing Risk Achievement Worth (RAW) values as part of the Probabilistic Risk Assessment analysis of the risk importance of components to be consistent with the methods used in NRC-accepted industry guidance document NEI [Nuclear Energy Institute] 00-04, “10 CFR 50.69 SSC [Structure, System, and Component] Categorization Guideline.” The proposed change will have no impact on the design or function of any safety-related structures, systems or components. The proposed change could result in a decrease in the safety significance ranking of some components, with a corresponding decrease in special treatment for such components. However, the treatment of such components would still be sufficient to ensure their reliable operation and would not result in a significant increase in their failure probability.

Therefore, the proposed change does not involve a significant increase in the probability or consequences of an accident previously evaluated.

2. Does the proposed amendment create the possibility of a new or different kind of accident from any accident previously evaluated?

Response: [No.]

The proposed change does not involve any physical alteration of plant equipment and does not change the method by which any safety-related structure, system, or component performs its function. The proposed change revises the STPNOC method of assessing Risk Achievement Worth (RAW) values as part of the Probabilistic Risk Assessment analysis of the risk importance of components to be consistent with the methods used in NRC-accepted industry guidance document NEI 00-04, “10 CFR 50.69 SSC Categorization Guideline.” As such, no new or different types of equipment will be installed, and the basic operation of installed equipment is unchanged. The methods governing plant operation remain consistent with current safety analysis assumptions.

Therefore, the proposed change will not create the possibility of a new or different kind of accident from any accident previously evaluated.

3. Does the proposed change involve a significant reduction in a margin of safety?

Response: [No.]

The proposed change does not negate any existing requirement, and does not adversely affect existing plant safety margins or the reliability of the equipment assumed to operate in the safety analysis. The proposed change revises the STPNOC method of assessing Risk Achievement Worth (RAW) values as part of the Probabilistic Risk Assessment analysis of the risk importance of components to be consistent with the methods used in NRC-accepted industry guidance document NEI 00-04, “10 CFR 50.69 SSC Categorization Guideline.” As such, there are no changes being made to safety analysis assumptions, safety limits or safety system settings that would adversely affect plant safety as a result of the proposed change.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Energy Kewaunee, Inc. Docket No. 50-305, Kewaunee Power Station, Kewaunee County, Wisconsin

Date of application for amendment: July 16, 2008.

Brief description of amendment: The amendment revised Sections 3.3.a.1.A and 3.3.a.2.A of the Kewaunee Technical Specifications to increase the minimum required safety injection accumulator boron concentration from 1,900 parts-per-million (ppm) to 2,400 ppm.

Date of issuance: November 6, 2008.

Effective date: As of the date of issuance and shall be implemented within 60 days.

Amendment No.: 199.

Facility Operating License No. DPR-43: Amendment revised the Facility Operating License and Technical Specifications.

Date of initial notice in Federal Register: August 26, 2008 (73 FR 50359); The Commission's related evaluation of the amendment is contained in a Safety Evaluation dated November 6, 2008.

No significant hazards consideration comments received: No.

Duke Energy Carolinas, LLC, Docket Nos. 50-269, 50-270, and 50-287, Oconee Nuclear Station, Units 1, 2, and 3, Oconee County, South Carolina

Date of application of amendments: August 1, 2008, supplemented by letter dated September 25, 2008.

Brief description of amendments: The amendments authorized revision to the Updated Final Safety Analysis Report to describe a design change that mitigates Alloy 600 concerns in the pressurizer.

Date of Issuance: November 10, 2008.

Effective date: As of the date of issuance and shall be implemented within 30 days from the date of issuance.

Amendment Nos.: 364, 366, 365.

Renewed Facility Operating License Nos. DPR-38, DPR-47, and DPR-55: Amendments revised the licenses.

Date of initial notice in Federal Register: September 9, 2008 (73 FR 52415); The supplement dated September 25, 2008, provided additional information that clarified the application, did not expand the scope of the application as originally noticed, and did not change the staff's original proposed no significant hazards consideration determination. The Commission's related evaluation of the amendments is contained in a Safety Evaluation dated November 10, 2008.

No significant hazards consideration comments received: No.

Duke Power Company LLC, et al., Docket Nos. 50-413 and 50-414, Catawba Nuclear Station, Units 1 and 2, York County, South Carolina

Date of application for amendments: November 12, 2007, as supplemented by letter dated April 8, 2008.

Description of amendment request: The amendments authorize changes to the licensing bases and final updated safety analysis report for the Catawba Nuclear Power Station, Units 1 and 2, concerning Revision 1 to DPC-NE-1005-P, Nuclear Design Methodology Using CASMO-4/SlMULATE-3 MOX.

Date of issuance: November 12, 2008.

Effective date: As of the date of issuance and shall be implemented within 30 days from the date of issuance.

Amendment Nos.: 246, 239.

Facility Operating License Nos. NPF-35 and NPF-52: Amendments revised the licenses.

Date of initial notice in Federal Register: January 29, 2008 (73 FR 5218). The Commission's related evaluation of the amendments is contained in a Safety Evaluation dated November 12, 2008.

No significant hazards consideration comments received: No.

Duke Power Company LLC, Docket Nos. 50-369 and 50-370, McGuire Nuclear Station, Units 1 and 2, Mecklenburg County, North Carolina

Date of application for amendments: November 12, 2007, as supplemented by letter dated April 8, 2008.

Description of amendment request: The amendments authorize changes to the licensing bases and final updated safety analysis report for the McGuire Nuclear Power Station, Units 1 and 2, concerning Revision 1 to DPC-NE-1005-P, Nuclear Design Methodology Using CASMO-4/SlMULATE-3 MOX.

Date of issuance: November 12, 2008.

Effective date: As of the date of issuance and shall be implemented within 30 days from the date of issuance.

Amendment Nos.: 247, 227.

Facility Operating License Nos. NPF-9, and NPF-17: Amendments revised the licenses.

Date of initial notice in Federal Register: January 29, 2008 (73 FR 5218). The Commission's related evaluation of the amendments is contained in a Safety Evaluation dated November 12, 2008.

No significant hazards consideration comments received: No.

Exelon Generation Company, LLC, Docket Nos. 50-352 and 50-353, Limerick Generating Station, Units 1 and 2, Montgomery County, Pennsylvania

Date of application for amendment: November 13, 2007, supplemented by letter dated July 29, 2008.

Brief description of amendment: The amendments consist of removal of footnotes contained in the technical specifications requiring original plant startup data to be used as a baseline for evaluating the performance of the jet pumps during surveillances.

Date of issuance: November 12, 2008.

Effective date: As of the date of issuance and shall be implemented within 60 days of issuance.

Amendment Nos.: 196 and 157.

Facility Operating License Nos. NPF-39 and NPF-85. These amendments revised the license and the technical specifications.

Date of initial notice in Federal Register: July 1, 2008 (73 FR 37505). The supplement dated July 29, 2008, provided additional information that clarified the application, did not expand the scope of the application as originally noticed, and did not change the NRC staff's original proposed no significant hazards consideration determination. The Commission's related evaluation of the amendments is contained in a Safety Evaluation dated November 12, 2008.

No significant hazards consideration comments received: No.

FPL Energy Duane Arnold, LLC, Docket No. 50-331, Duane Arnold Energy Center, Linn County, Iowa

Date of application for amendment: December 20, 2007.

Brief description of amendment: The amendment revises (1) the control rod notch surveillance frequency in Section 3.1.3, “Control Rod OPERABILITY,” and (2) one example in Section 1.4, “Frequency,” to clarify the applicability of the 1.25 surveillance test interval extension. These changes were done pursuant to the previously approved Technical Specification Task Force (TSTF) change traveler TSTF-475, “Control Rod Notch Testing Frequency and SRM [Source Range Monitor] Insert Control Rod Action,” Revision 1.

Date of issuance: November 6, 2008.

Effective date: As of the date of issuance and shall be implemented within 120 days of the date of issuance.

Amendment No.: 171.

Facility Operating License No. DPR-49: The amendment revised the Technical Specifications.

Date of initial notice in Federal Register: February 26, 2008 (73 FR 10298). The Commission's related evaluation of the amendment is contained in a Safety Evaluation dated November 6, 2008.

No significant hazards consideration comments received: No.

Northern States Power Company, Docket Nos. 50-282 and 50-306, Prairie Island Nuclear Generating Plant, Units 1 and 2, Goodhue County, Minnesota

Date of application for amendments: November 19, 2007, as supplemented by letter dated May 7, 2008.

Brief description of amendments: The amendments replace the current fixed Frequency for testing the containment spray nozzles in Technical Specification Surveillance Requirement 3.6.5.8 with a maintenance or event based Frequency.

Date of issuance: November 6, 2008.

Effective date: As of the date of issuance and shall be implemented within 90 days.

Amendment Nos.: Unit 1-190, Unit 2-179.

Facility Operating License Nos. DPR-42 and DPR-60: Amendments revised the Technical Specifications.

Date of initial notice in Federal Register: December 18, 2007 (72 FR 71713). The supplement dated May 7, 2008, contained clarifying information and did not change the NRC staff's initial proposed finding of no significant hazards consideration. The Commission's related evaluation of the amendments is contained in a Safety Evaluation dated November 6, 2008.

No significant hazards consideration comments received: No.

Dated at Rockville, Maryland, this 20th day of November 2008.
For the Nuclear Regulatory Commission.
Joseph G. Giitter,
Director, Division of Operating Reactor Licensing, Office of Nuclear Reactor Regulation.

[FR Doc. E8-28268 Filed 12-1-08; 8:45 am]

BILLING CODE 7590-01-P